DEPARTMENT OF TRANSPORTATION

Federal Aviation Administration

14 CFR Part 39

[Docket No. FAA-2021-0838; Project Identifier AD-2020-01590-A]

RIN 2120-AA64

Airworthiness Directives; Honda Aircraft Company, LLC Airplanes

AGENCY: Federal Aviation Administration (FAA), DOT.

ACTION: Notice of proposed rulemaking (NPRM).

SUMMARY: The FAA proposes to adopt a new airworthiness directive (AD) for certain Honda Aircraft Company, LLC (Honda) Model HA-420 airplanes. This proposed AD was prompted by a report of in-flight smoke and fire that initiated from the windshield heat power wire braid. This proposed AD would require incorporating temporary revisions into the airplane flight manual (AFM) and the quick reference handbook (QRH) that modify procedures for windshield heat operation until the affected windshield assemblies are replaced. The FAA proposes this AD to address the unsafe condition on these products.

DATES: The FAA must receive comments on this proposed AD by November 15, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this proposed rule, contact Honda Aircraft Company, LLC, 6430 Ballinger Road, Greensboro, NC 27410; phone: (336) 662-0246; website: https://www.hondajet.com. You may view this service information at the FAA, Airworthiness Products Section, Operational Safety Branch, 901 Locust, Kansas City, MO 64106. For information on the availability of this material at the FAA, call (816) 329-4148.

Examining the AD Docket

You may examine the AD docket at https://www.regulations.gov by searching for and locating Docket No. FAA-2021-0838; or in person at Docket Operations between 9 a.m. and 5 p.m., Monday through Friday, except Federal holidays. The AD docket contains this NPRM, any comments received, and other information. The street address for Docket Operations is listed above.

FOR FURTHER INFORMATION CONTACT: Bryan Long, Aviation Safety Engineer, Atlanta ACO Branch, FAA, 1701 Columbia Avenue, College Park, GA 30337; phone: (404) 474-5578; fax: (404) 474-5606; email: bryan.long@faa.gov.

SUPPLEMENTARY INFORMATION:

Comments Invited

The FAA invites you to send any written relevant data, views, or arguments about this proposal. Send your comments to an address listed under ADDRESSES. Include “Docket No. FAA-2021-0838; Project Identifier AD-2020-01590-A” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Bryan Long, Aviation Safety Engineer, Atlanta ACO Branch, FAA, 1701 Columbia Avenue, College Park, GA 30337. Any commentary that the FAA receives that is not specifically designated as CBI will be placed in the public docket for this rulemaking.

Background

The FAA received a report of inflight smoke and fire that initiated from the windshield heat power wire braid on a Honda Model HA-420 airplane. An investigation identified that certain Honda Model HA-420 airplanes could have a severed windshield heat power wire braid from installation of the windshield heat wiring during manufacture. The severed windshield heat power wire braid could cause arcing that ignites the wire sheathing and sealant and the windshield acrylic. This condition, if not addressed, could lead to cockpit smoke and fire.

FAA's Determination

The FAA is issuing this NPRM after determining that the unsafe condition described previously is likely to exist or develop on other products of the same type design.

Related Service Information Under 1 CFR Part 51

The FAA reviewed the following temporary revisions.

• Honda Aircraft Company Temporary Revision TR 04A-1, dated March 4, 2020, for Airplane Flight Manual HJI-29001-003-001 Rev C.

• HondaJet Temporary Revision TR 04A-1, dated March 4, 2020, for Quick Reference Handbook HJ1-29000-007-001 Rev C.

• Honda Aircraft Company Temporary Revision TR 04A-1, dated March 4, 2020, for Airplane Flight Manual HJ1-29001-003-001 Rev E.

• HondaJet Temporary Revision TR 04A-1, dated March 4, 2020, for Quick Reference Handbook Normal Procedures Rev E, HJ1-29001-007-001.

These temporary revisions provide modified procedures for windshield heat operation to reduce exposure to potential windshield heat for the applicable serial numbers specified on the documents.

The FAA also reviewed Honda Service Bulletin SB-420-56-002, Revision B, dated April 19, 2021 (Honda SB-420-002B). The service bulletin specifies identifying and replacing affected windshield assemblies. The service bulletin also specifies removing the temporary revisions to the AFM, QRH, and electronic checklist (ECL) after the affected windshield assemblies have been replaced.

This service information is reasonably available because the interested parties have access to it through their normal course of business or by the means identified in the ADDRESSES section.

Proposed AD Requirements in This NPRM

This proposed AD would require incorporating the temporary revisions to the AFM and QRH that modify procedures for windshield heat operations until the affected windshield assemblies are replaced. This proposal would allow the owner/operator (pilot) to revise the AFM and QRH. These revisions are not considered maintenance actions and may be done by a pilot holding at least a private pilot certificate. These actions must be recorded in the aircraft maintenance records to show compliance with this AD.

Differences Between This AD and the Service Information

Honda issued temporary revisions to the AFM, QRH, and ECL prior to issuing Honda SB-420-002B, which specifies replacement of the windshield assemblies. Honda SB-420-002B does not specify incorporating the temporary revisions to the AFM, QRH, and ECL but addresses removal if the temporary revisions were incorporated. The proposed AD would not require incorporating or removing the temporary revisions to the ECL because the ECL is not part of the approved type design of the airplane. All pertinent requirements would be addressed through the AFM.

Costs of Compliance

The FAA estimates that this AD, if adopted as proposed, would affect 156 airplanes of U.S. registry. There are 475 affected windshield assemblies worldwide, and the FAA has no way of knowing the number of affected windshield assemblies installed on U.S. airplanes. The estimated cost on U.S. operators reflects the maximum possible cost based on the 156 airplanes of U.S. registry.

The FAA estimates the following costs to comply with this proposed AD:

Estimated Costs
Action | Labor cost | Parts cost | Cost per product | Cost on U.S. operators
Insert revised procedures in the AFM and QRH | 1 work-hour × $85 per hour = $85 | Not applicable | $85 | $13,260
* Windshield assembly replacement (both left and right assemblies) | 154 work-hours × $85 per hour = $13,090 | $153,286 | 166,376 | 25,954,656
Remove revised procedures from the AFM and QRH | 1 work-hour × $85 per hour = $85 | Not applicable | 85 | 13,260
* On most airplanes, both the left and right windshield assemblies have a serial number affected by the unsafe condition, and the above costs represents replacement of both the left and right windshield assemblies. However, some airplanes may only have one affected windshield assembly and not require replacement of both.

Authority for This Rulemaking

Title 49 of the United States Code specifies the FAA's authority to issue rules on aviation safety. Subtitle I, section 106, describes the authority of the FAA Administrator. Subtitle VII: Aviation Programs, describes in more detail the scope of the Agency's authority.

The FAA is proposing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Honda Aircraft Company LLC: Docket No. FAA-2021-0838; Project Identifier AD-2020-01590-A.

(a) Comments Due Date

The FAA must receive comments by November 15, 2021.

(b) Affected ADs

None.

(c) Applicability

This AD applies to Honda Aircraft Company LLC Model HA-420 airplanes, serial numbers 42000011 through 42000179, 42000182, and 42000187, certificated in any category, with a windshield assembly installed that has a part number and serial number listed in table 5 of the Accomplishment Instructions in Honda Aircraft Company Alert Service Bulletin No. SB-420-56-002, Revision B, dated April 19, 2021 (Honda SB-420-56-002, Revision B).

(d) Subject

Joint Aircraft System Component (JASC) Code 3040, Windshield/Door Rain/Ice Removal.

(e) Unsafe Condition

This AD was prompted by a report of in-flight smoke and fire that initiated from the windshield heat power wire braid. The FAA is issuing this AD to prevent arcing of the windshield heat power wire braid, which could ignite the wire sheathing and sealant and the windshield acrylic. This condition, if not addressed, could lead to cockpit smoke and fire.

(f) Compliance

Comply with this AD within the compliance times specified, unless already done.

(g) Temporary Revisions to the Airplane Flight Manuals (AFMs) and Quick Reference Handbooks (QRHs)

(1) Within 15 days after the effective date of this AD, revise the existing AFM and QRH for your airplane by inserting the pages identified in the applicable temporary revisions listed in paragraphs (g)(1)(i) through (iv) of this AD.

(i) Honda Aircraft Company Temporary Revision TR 04A-1, dated March 4, 2020, for Airplane Flight Manual HJI-29001-003-001 Rev C.

(ii) HondaJet Temporary Revision TR 04A-1, dated March 4, 2020, for Quick Reference Handbook HJ1-29000-007-001 Rev C.

(iii) Honda Aircraft Company Temporary Revision TR 04A-1, dated March 4, 2020, for Airplane Flight Manual HJ1-29001-003-001 Rev E.

(iv) HondaJet Temporary Revision TR 04A-1, dated March 4, 2020, for Quick Reference Handbook Normal Procedures Rev E, HJ1-29001-007-001.

(2) The actions required by paragraph (g)(1) of this AD may be performed by the owner/operator (pilot) holding at least a private pilot certificate and must be entered into the aircraft records showing compliance with this AD in accordance with 14 CFR 43.9(a)(1) through (4), and 14 CFR 91.417(a)(2)(v). The record must be maintained as required by 14 CFR 91.417, 121.380, or 135.439.

(h) Windshield Assembly Replacement

Within 24 months after the effective date of this AD, for each windshield assembly with a part number and serial number listed in table 5 of the Accomplishment Instructions in Honda SB-420-56-002, Revision B, replace the windshield assembly in accordance with step (2) or (3) of the Accomplishment Instructions in Honda SB-420-56-002, Revision B.

(i) Removal of Revisions to the AFMs and QRHs

Before further flight after replacing the windshield assemblies required by paragraph (h) of this AD, remove the AFM and QRH pages that were required by paragraph (g) of this AD.

(j) Alternative Methods of Compliance (AMOCs)

(1) The Manager, Atlanta ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (k)(1) of this AD.

(2) Before using any approved AMOC, notify your appropriate principal inspector, or lacking a principal inspector, the manager of the local flight standards district office/certificate holding district office.

(3) For service information that contains steps that are labeled as “Required for Compliance” (RC), the following provisions apply.

(i) The steps labeled as RC, including substeps under an RC step and any figures identified in an RC step, must be done to comply with the AD. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(k) Related Information

(1) For more information about this AD, contact Bryan Long, Aviation Safety Engineer, Atlanta ACO Branch, FAA, 1701 Columbia Avenue, College Park, GA 30337; phone: (404) 474-5578; fax: (404) 474-5606; email: bryan.long@faa.gov.

(2) For service information identified in this AD, contact Honda Aircraft Company LLC, 6430 Ballinger Road, Greensboro, NC 27410; phone: (336) 662-0246; website: https://www.hondajet.com. You may view this referenced service information at the FAA, Airworthiness Products Section, Operational Safety Branch, 901 Locust, Kansas City, MO 64106. For information on the availability of this material at the FAA, call (816) 329-4148.

Issued on September 23, 2021.
Lance T. Gant,
Director, Compliance & Airworthiness Division, Aircraft Certification Service.

[FR Doc. 2021-21104 Filed 9-29-21; 8:45 am]

BILLING CODE 4910-13-P